ENVIRONMENTAL PROTECTION AGENCY

[RCRA-2003-0024; FRL-7558-5]

Announcement of Availability of the Results-Based Approaches and Tailored Oversight Guidance for Facilities Subject to Corrective Action Under Subtitle C of the Resource Conservation and Recovery Act

AGENCY: Environmental Protection Agency (EPA).

ACTION: Notice.

SUMMARY: The purpose of this notice is to announce the availability of the final “Results-Based Approaches and Tailored Oversight Guidance for Facilities Subject to Corrective Action Under Subtitle C of the Resource Conservation and Recovery Act” (Guidance). This guidance is designed to provide the EPA Regions, the States, Tribes, the regulated community, members of the public, and other stakeholders with a better understanding of EPA's general results-based strategy for RCRA Corrective Action. This document provides guidance on how EPA generally intends to exercise its discretion in implementing its statutory authorities and regulations. EPA wrote this guidance because we believe greater use of results-based approaches will help us achieve our short-term goals established by the Government Performance and Results Act (GPRA).

DATES: This guidance was issued September 26, 2003.

ADDRESSES: The Agency is posting this document on the Corrective Action Web site: http://www.epa.gov/correctiveaction. If you would like to receive a hard copy, please call the RCRA Call Center at 800-424-0346 or TDD 800-553-7672 (hearing impaired). In the Washington, DC, metropolitan area, call 703-412-9810 or TDD 703-412-3323.

FOR FURTHER INFORMATION CONTACT: For more detailed information on specific aspects of the guidance document, contact Karen Tomimatsu, Office of Solid Waste, Mail Code 5303W, U.S. Environmental Protection Agency, 1200 Pennsylvania Avenue, NW., Washington, DC 20460, (703-605-0698), (tomimatsu.karen@epa.gov), or Peter Neves, Office of Enforcement and Compliance Assurance, Mail Code 2273A, U.S. Environmental Protection Agency, 1200 Pennsylvania Avenue, NW., Washington, DC 20460, (202) 564-6072, (neves.peter@epa.gov).

SUPPLEMENTARY INFORMATION: The guidance document will be issued as a memorandum from EPA headquarters to the Regional offices. It will be available on the Internet at: http://www.epa.gov/correctiveaction.

EPA has established an official public docket for this action under Docket ID No. RCRA-2003-0024. The official public docket is the collection of materials that is available for public viewing at the OSWER Docket in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OSWER Docket is (202) 566-0270.

You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: August 18, 2003.
Robert Springer,
Director, Office of Solid Waste.

Dated: September 12, 2003.
Susan E. Bromm,
Director, Office of Site Remediation Enforcement.

[FR Doc. 03-25273 Filed 10-3-03; 8:45 am]

BILLING CODE 6560-50-P